DEPARTMENT OF TRANSPORTATION

Federal Aviation Administration

[Docket No. FAA-2012-0571]

Notice of a Change in Direction Finder Availability in Alaska

AGENCY: Federal Aviation Administration (FAA), DOT.

ACTION: Notice for public comment.

SUMMARY: This Notice Announcement is a request for public comment on a proposal to decommission all 29 Direction Finders (DF) and the associated DF approaches in Alaska. DF usage for pilot orientation has become almost non-existent. Since 2004, the Alaska Flight Service Information Area Group (AFSIAG) has documented eight flight assists that involved lost or disoriented pilots. Of these, the use of DF equipment was documented three times. Since 2008, there have been no flight assists, nor usage of DF equipment for orientation services. Newer technologies such as Global Positioning System (GPS) and Automatic Dependent Surveillance—Broadcast (ADS—B) have reduced the utilization of DF steers. Flight Service Stations have other tools available to assist lost or disoriented pilots, such as VOR, ADF, and GPS, that meet the needs of our aviation community. DF equipment is beyond its useful lifecycle.

DATES: Send your comments on or before September 10, 2012.

ADDRESSES: You may send comments [identified by Docket No. FAA-2012-0571] using any of the following methods:

• Federal eRulemaking Portal: Go to http://www.regulations.gov and follow the online instructions for sending your comments electronically.

• Mail: Send comments to Docket Operations, M-30; U.S. Department of Transportation, 1200 New Jersey Avenue SE., Room W12-140, West Building Ground Floor, Washington, DC 20590-0001.

• Hand Delivery or Courier: Bring comments to Docket Operations in Room W12-140 of the West Building Ground Floor at 1200 New Jersey Avenue SE., Washington, DC, between 9 a.m. and 5 p.m., Monday through Friday, except Federal holidays.

• Fax: Fax comments to Docket Operations at 202-493-2251.

• Privacy: We will post all comments we receive, without change, to http://www.regulations.gov, including any personal information you provide.

Docket: To read rulemaking or background documents or comments received, you may go to http://www.regulations.gov at any time and follow the online instructions for accessing the docket. Alternatively, you may go to Docket Operations in Room W12-140 of the West Building Ground Floor at 1200 New Jersey Avenue SE., Washington, DC, between 9 a.m. and 5 p.m., Monday through Friday, except Federal holidays.

FOR FURTHER INFORMATION CONTACT: Steven Villanueva, Manager, Flight Services Safety and Operations Support; Mail Drop: 1575 Eye Street NW., Room 9304; 800 Independence Avenue SW.; Washington, DC 20591; telephone (202) 385-7795; Fax (202) 385-7617; email steven.villanueva@faa.gov.

SUPPLEMENTARY INFORMATION:

Comments Invited

The FAA invites interested persons to submit written comments or views. The most helpful comments reference a specific portion of the proposal, explain the reason for any recommended change, and include supporting data.

Privacy Act: Please note that we will post all comments we receive, without change, to http://www.regulations.gov, including any personal information you provide. Using the search function of the docket Web site, anyone can find and read the electronic form of all comments received in any of our dockets, including the name of the individual sending the comment (or signing the comment for an association, business, labor union, etc.). You may review the Department of Transportation's complete Privacy Act Statement in the Federal Register published on April 11, 2000 (65 FR 19477-78) or you may visit http://docketsinfo.dot.gov/.

Issued in Washington, DC, on August 1, 2012.
Jeanne Giering,
Director, Flight Service Program Operations.

[FR Doc. 2012-19590 Filed 8-9-12; 8:45 am]

BILLING CODE 4910-13-P